DEPARTMENT OF THE INTERIOR

National Park Service

[NPS-WASO-NRNHL-DTS#-38380; PPWOCRADI0, PCU00RP14.R50000]

National Register of Historic Places; Notification of Pending Nominations and Related Actions

AGENCY: National Park Service, Interior.

ACTION: Notice.

SUMMARY: The National Park Service is soliciting electronic comments on the significance of properties nominated before July 20, 2024, for listing or related actions in the National Register of Historic Places.

DATES: Comments should be submitted electronically by August 19, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 20, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

DISTRICT OF COLUMBIA

District of Columbia

Youth Pride, Inc. (aka Pride, Inc.), (20th Century African American Civil Rights Sites in Washington, DC, 1912-1974 MPS), 1536 U Street NW, Washington, MP100010724

INDIANA

Allen County

Shawnee Place Historic District, (Historic Residential Suburbs in the United States, 1830-1960 MPS), Roughly bounded by Killea Street, Kinnaird Avenue, Webster Street, and the second alley west of Hoagland Avenue, Fort Wayne, MP100010747

Clay County

Kennedy-Hoffa House, 501 East Main Street, Center Point, SG100010746

Hamilton County

Applegate-Johnson Farmstead, 9680 Haverstick Road, Carmel, SG100010740

Hancock County

Fortville Carnegie Library, 115 N Main Street, Fortville, SG100010744

Fortville Methodist Episcopal Church, 125 East Staat Street, Fortville, SG100010745

Lake County

Andrew Means Park Manor Historic District, (Residential Planning and Development in Indiana, 1940-1973 MPS), Bounded by 19th Avenue, 21st Avenue, and Madison and Polk Streets, Gary, MP100010739

Lawrence County

Bedford Northside Residential Historic District, Roughly bounded by the alley between 13th Street and 14th Street to the north, L Street to the east, 16th Street/US 50/IN 450 to the south, and O Street to the west, Bedford, SG100010741

Monroe County

Cascades Park, 2851 Old State Rd. 37, Bloomington, SG100010743

Ripley County

Versailles Courthouse Square Historic District, Roughly bounded by East Third North Street on the north, Alley 1-45 on the east, Water Street on the south, and Alley 9-70 on the west, Versailles, SG100010748

Starke County

Chesapeake & Ohio 2-8-4 Steam Engine No. 2789, Hoosier Valley Railroad Museum, 507 Mulberry St., North Judson, SG100010742

MICHIGAN

Wayne County

Millwood Apartments, (Apartment Buildings in Detroit, Michigan, 1892-1970 MPS), 36 East Milwaukee Street, Detroit, MP100010751

NEW MEXICO

Bernalillo County

Albuquerque Public Library, 423 Central Avenue NE, Albuquerque, SG100010754

Rio Arriba County

MacFie, Franklin, House, 220 County Road 140, Hernandez vicinity, SG100010755

PENNSYLVANIA

Philadelphia County

Upsal Gardens Apartments, (Garden Apartments of Philadelphia, Pennsylvania Before the Great Depression, 1885-1933 MPS), 246 W Upsal Street, Philadelphia, MP100010726

VIRGINIA

Fauquier County

Warrenton Historic District (Boundary Increase), Alexandria Pike, Chestnut St., Culper St., East St., Falmouth St., Franklin St., Green St., John Marshall St., Keith St., Lee St., Pelham St., Washington St., Winchester St. City or town: Warrenton, Warrenton, BC100010752

Richmond INDEPENDENT CITY

St. John's United Holy Church of America. Inc., 1507 North 28th Street, Richmond, SG100010723

Staunton INDEPENDENT CITY

Staunton Coca-Cola Bottling Works, 709 North Augusta Street, Staunton, SG100010736

WYOMING

Teton County

John and Gladys Wort House, 155 W Pearl Street, Jackson, SG100010735

Additional documentation has been received for the following resource(s):

ARIZONA

Maricopa County

Miracle Mile Historic District (Additional Documentation), 1325-1812 East McDowell Rd., Phoenix, AD100008193

CALIFORNIA

Ventura County

Anacapa Island Light Station (Additional Documentation), (Light Stations of California MPS), Anacapa Island, Channel Islands National Park, Oxnard vicinity, AD91001101

COLORADO

Denver County

Central Presbyterian Church (Additional Documentation), 1660 Sherman St., Denver, AD74000565

Montrose County

Knights of Pythias (KP) Building (Additional Documentation), 33 South Cascade Avenue, Montrose, AD100010081

MICHIGAN

Charlevoix County

Beaver Island Light Station (Additional Documentation), S of St. James on Beaver Island, St. James vicinity, AD78001495

VIRGINIA

Northampton County

Almshouse Farm at Machipongo (Additional Documentation), 12402 Lankford Hwy., Machipongo, AD02000317

Nomination(s) submitted by Federal Preservation Officers:

The State Historic Preservation Officer reviewed the following nomination(s) and responded to the Federal Preservation Officer within 45 days of receipt of the nomination(s) and supports listing the properties in the National Register of Historic Places.

CALIFORNIA

Ventura County

Anacapa Island Light Station (Boundary Increase) (Light Stations of California MPS), Anacapa Island, Channel Islands National Park, Oxnard vicinity, BC100010729

Authority: Section 60.13 of 36 CFR part 60.

Sherry A. Frear,
Chief, National Register of Historic Places/National Historic Landmarks Program.

[FR Doc. 2024-17052 Filed 8-1-24; 8:45 am]

BILLING CODE 4312-52-P